DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Nicholas McMaster, University of Chicago: Based on a College Discipline Hearing report and on additional analysis conducted by ORI in its oversight review, the U.S. Public Health Service (PHS) found that Mr. Nicholas McMaster, undergraduate student, Biological Sciences Collegiate Division in the Departments of Psychology and Comparative Human Development at the University of Chicago (UC), engaged in research misconduct supported by National Institute of Environmental Health Sciences (NIEHS), National Institutes of Health (NIH), grant P50 ES12382 and National Institute on Aging (NIA), NIH, grant P01 AG018911.

Specifically, PHS found that Mr. McMaster fabricated data in recording the score for the lordosis reflex and in recording the cell types present in vaginal epithelium from rats in two experimental psychology protocols.

Mr. McMaster has entered into a Voluntary Exclusion Agreement in which he has voluntarily agreed, for a period of three (3) years, beginning on November 14, 2006:

(1) To exclude himself from serving in any advisory capacity to PHS, including but not limited to service on any PHS advisory committee, board, and/or peer review committee, or as a consultant; and

(2) that any institution which submits an application for PHS support for a research project on which Mr. McMaster's participation is proposed or which uses him in any capacity on PHS supported research, or that submits a report of PHS-funded research in which he is involved, must concurrently submit a plan for supervision of his duties to the funding agency for approval. The supervisory plan must be designed to ensure the scientific integrity of his research contribution. Mr. McMaster also agrees to ensure that the institution submits a copy of the supervisory plan to ORI. He further agrees that he will not participate in any PHS-supported research until such a supervisory plan is submitted to ORI.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E6-20927 Filed 12-7-06; 8:45 am]

BILLING CODE 4150-31-P